DEPARTMENT OF COMMERCE

International Trade Administration

Watch Duty-Exemption and 7113 Jewelry Duty-Refund Program Forms

ACTION: Proposed collection; comment request.

SUMMARY: The Department of Commerce, as part of its continuing effort to reduce paperwork and respondent burdens, invites the general public and other Federal agencies to take this opportunity to comment on continuing information collections, as required by the Paperwork Reduction Act of 1995, Public Law 104-13 (44 U.S.C. 3506(c)(2)(A)).

DATES: Written comments must be submitted on or before August 6, 2002.

ADDRESSES: Direct all written comments to Madeleine Clayton, Departmental Paperwork Clearance Officer, (202) 482-3129, Department of Commerce, Room 6608, 14th & Constitution Avenue, NW, Washington, DC 20230 or via the Internet at MClayton@doc.gov.

FOR FURTHER INFORMATION CONTACT: Request for additional information or copies of the information collection instrument and instructions should be directed to: Faye Robinson, Statutory Import Programs Staff, Room 4211, U.S. Department of Commerce, Washington, DC 20230; Phone number (202) 482-3526, and fax number (202) 482-0949.

SUPPLEMENTARY INFORMATION:

I. Abstract

Public Law 97-446, as amended by Public Law 103-465, requires the Department of Commerce and the Interior to administer the distribution of duty-exemptions and duty-refunds to watch producers in the U.S. insular possessions and the Northern Mariana Islands. Public Law 106-36, enacted in 1999, extended the duty-refund benefit for any jewelry within heading 7113 of the Harmonized Tariff Schedule of the United States which is the product of the U.S. Territories and the Northern Mariana Islands in accordance with the provisions of the note in chapter 71 and additional U.S. note 5 to chapter 91. The primary consideration in collecting information is the enforcement of the law and the information gathered is limited to that necessary to prevent abuse of the program and to permit a fair and equitable distribution of its benefits. Form ITA-340P provides the data to assist in verification of duty-free shipments of watches into the United States and make certain the allocations are not exceeded. Forms ITA-360P and ITA-361P are necessary to implement the duty-refund program for the watch and jewelry producers. Because the duty-refund benefit has been changed from an annual benefit to a biannual benefit, Forms ITA-360P and ITA-361P will now also be used for the distribution of an interim duty-refund benefit.

II. Method of Collection

The Department of Commerce issues Form ITA-360P to each watch and jewelry producer biannually. No information is requested unless the recipient wishes to transfer the certificate. Form ITA-361P is obtained from the Department of Commerce and must be completed each time a certificate holder wishes to obtain a portion, or all, of the duty-refund authorized by the certificate. The form is then sent to the Department of Commerce for validation and returned to the producer. Form ITA-340P may be obtained from the territorial government or may be produced by the company in an approved computerized format or any other medium or format approved by the Department of Commerce and the Interior. The form is completed for each duty-free shipment of watches and watch movements into the U.S. and a copy is transmitted to the territorial government. Only if entry procedures are not transmitted electronically through Customs' automated broker interface, do the regulations require a copy of the permit be sent to Customs along with other entry paperwork.

III. Data

OMB Number: 0625-0134.

Form Number: ITA-340P, 360P, 361P.

Type of Review: Revision-regular submission.

Affected Public: Business or other for-profit.

Estimated Number of Respondents: 4 (Form ITA-340); 7 (Forms ITA-360P & 361P).

Estimated Time Per Response: 10 minutes (Forms ITA-340P & 361P); 0 (ITA-360P).

Estimated Total Annual Burden Hours: 65 hours and 40 minutes.

Estimated Total Annual Costs: The estimated annual cost for this collection is $10,788 ($788 for respondents and $10,000 for federal government (included are some administration costs of program).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: June 3, 2002.
Madeleine Clayton,
Departmental Paperwork Clearance Officer, Office of the Chief Information Officer.

[FR Doc. 02-14350 Filed 6-6-02; 8:45 am]

BILLING CODE 3510-DS-P